DEPARTMENT OF TRANSPORTATION

National Highway Traffic Safety Administration

49 CFR Part 571

[Docket No. NHTSA-2006-23634]

RIN 2127-AJ75

Federal Motor Vehicle Safety Standards; Lamps, Reflective Devices, and Associated Equipment; Correction

AGENCY: National Highway Traffic Safety Administration, DOT.

ACTION: Proposed rule; correction.

SUMMARY: This document corrects the docket number for a notice of proposed rulemaking (NPRM) published in the Federal Register (70 FR 77454) on December 30, 2005 to amend Federal motor vehicle safety standard (FMVSS) No. 108 on lamps, reflective devices, and associated equipment. That NPRM proposed to amend the standard by reorganizing the regulatory text so that it provides a more straight-forward and logical presentation of the applicable regulatory requirements.

FOR FURTHER INFORMATION CONTACT: David Hines, Office of Crash Avoidance Standards (NVS-121), NHTSA, 400 Seventh Street, SW., Washington, DC 20590. (Telephone: (202) 493-0245) (Fax: (202) 366-7002).

Correction

In proposed rule FR Doc. 05-24421, beginning on page 77454 in the issue of December 30, 2005, on page 77454 in the first column, correct the “Agency Docket Number” to read: [Docket No. NHTSA-2006-23634].

Issued: February 3, 2006.
Stephen R. Kratzke,
Associate Administrator for Rulemaking.

[FR Doc. E6-1743 Filed 2-7-06; 8:45 am]

BILLING CODE 4910-59-P